DEPARTMENT OF COMMERCE

National Oceanic and Atmospheric Administration

[I.D. 030507H]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings in Anchorage, AK.

DATES: The meetings will be held from Monday, March 26 through Tuesday, April 3, 2007. See SUPPLEMENTARY INFORMATION for specific dates and times.

ADDRESSES: The meetings will be held at the Anchorage Hilton Hotel, 500 West Third Avenue, Anchorage, AK.

Council address: North Pacific Fishery Management Council, 605 W. 4th Avenue, Suite 306, Anchorage, AK 99501-2252.

FOR FURTHER INFORMATION CONTACT: David Witherell, Council staff, telephone: (907) 271-2809.

SUPPLEMENTARY INFORMATION: The Council will begin its plenary session at 8 a.m. on Wednesday, March 28, continuing through Tuesday, April 3, 2007. The Council will meet jointly with the Alaska Board of Fisheries from 1 p.m. to 5 p.m. on Wednesday, March 28.

The agenda will consist of: Halibut Charter Management; Steller Sea Lion (SSL) Recovery Plan and Biological Opinion (BiOp); Salmon Bycatch; Potential sector split for cod in the Gulf of Alaska (GOA) and License Limitation Program (LLP) recency in the GOA and tendering issues; Dark Rockfish in the GOA (and potential state management aspects); Request for closed area around Unalaska Bay; Arctic Management Plan discussion paper.

The Council's Advisory Panel (AP) will begin at 8 a.m., Monday, March 26 and continue through Saturday, March 31.

The Scientific and Statistical Committee (SSC) will begin at 8 a.m. on Monday, March 26 and continue through Wednesday March 28, 2007.

The Enforcement Committee will meet Tuesday, March 27, from 9 a.m. to 12 noon, in the Birch/Willow Room.

The Ecosystem Committee will meet March 27, from 1 p.m. to 5 p.m., in the Birch/Willow Room.

All meetings are open to the public, except executive sessions. Council Plenary Session:

The agenda for the Council's plenary session will include the following issues. The Council may take appropriate action on any of the issues identified.

1. Reports

•Executive Director's Report (including revised National Environmenal Protection Act (NEPA) process, Statement of Oreganization, Practices, and Procedures).

•NMFS Management Report (including National Bycatch Report Updates and annual catch limit guidelines).

•U.S. Coast Guard Report.

•Alaska Department of Fish & Game Report.

•U.S. Fish & Wildlife Service Report.

•Protected Species Report (including update on recovery plan/BiOp).

2. Charter Halibut Management: NMFS Report on International Pacific Halibut Commission (IPHC) action; receive Stakeholder Committee report, action as necessary; Final action on Moratorium; State/Federal Management - review discussion paper; Review discussion paper on sport fish discard mortality; Initial review of analysis of Area 2C Guideline Harvest Levels (GHLs) measures; Discussion paper on halibut allocations, action as necessary; Report on Alaska Department of Fish & Game (ADF&G) logbook data (SSC only).

3. GOA Groundfish Management Review: Review discussion paper on GOA sideboards; review problem statement and develop alternatives GOA sector split; review problem statement and develop alternatives for GOA latent licenses; review discussion paper on Western GOA pollock trip limits and action as necessary.

4. Trawl LLP Recency: Review discussion paper on interactions with other limited entry programs; review discussion paper on implementation issues; action as necessary.

5. Bering Sea Aleutian Island (BSAI) Crab Management: Review 18-month BSAI Crab Review report, and take action as necessary; review crab data collection protocols, action as necessary.

6. Observer Program: Progress report and action as necessary.

7. Community Development Quota (CDQ): Review of legal opinion about CDQ Program roles and responsibilities, and action as necessary (T).

8. Socioeconomic Data: Receive workgroup report on Comprehensive Socioeconomic Data Collection.

9. Scallop Management: Review and approve Scallop Stock Assessment Fishery Evaluation (SAFE).

10. Groundfish Management: Discussion paper on >Other Species= management; final action on Dark Rockfish management; stock assessment review guidelines, action as necessary; SSCs Salmon Bycatch Workshop; action as necessary.

11. Habitat Conservation: Initial Review of Bering Sea habitat conservation measures; review Habitat Area of Particular Concern (HAPC) priorities and timing, action as necessary; final action on Essential Fish Habitat Aleutian Island open area adjustment.

12. Aleutian Island Fishery Ecosystem Plan (FEP): Initial review of FEP (T).

13. Arctic Management: Review discussion paper, and take action as necessary.

14. Staff Tasking: Review Committees and tasking, and take action as necessary.

15. Other Business.

The SSC agenda will include the following issues:

1. Protected Species

2. Charter Halibut Management

3. GOA Groundfish Management

4. BSAI Crab Management

5. Trawl LLP Recency

6. Socioeconomic Data

7. Scallop Management

8. Groundfish Management

9. Habitat Conservation

10. Aleutian Island Fishery Ecosystem Plan

11. Arctic Management

The Advisory Panel will address the same agenda issues as the Council, except for reports.

Special Accommodations

These meetings are physically accessible to people with disabilities. Requests for sign language interpretation or other auxiliary aids should be directed to Gail Bendixen at (907) 271-2809 at least 7 working days prior to the meeting date.

Dated: March 6, 2007.
Tracey L. Thompson,
Acting Director, Office of Sustainable Fisheries, National Marine Fisheries Service.

[FR Doc. E7-4223 Filed 3-8-07; 8:45 am]

BILLING CODE 3510-22-S